DEPARTMENT OF TRANSPORTATION

Federal Aviation Administration

14 CFR Part 71

[Docket No. FAA-2020-0871; Airspace Docket No. 20-AGL-32]

RIN 2120-AA66

Amendment of Class D and Class E Airspace and Revocation of Class E Airspace; Muskegon, MI

AGENCY: Federal Aviation Administration (FAA), DOT.

ACTION: Final rule; correction.

SUMMARY: This action corrects the final rule published in the Federal Register on January 21, 2021, amending the Class D and Class E airspace and revoking the Class E airspace designated as an extension to Class D and Class E surface areas at Muskegon County Airport, Muskegon, MI. The word “Airport” was inadvertently omitted from the Class E surface area airspace legal description for Muskegon County Airport.

DATES: Effective date 0901 UTC, April 22, 2021. The Director of the Federal Register approves this incorporation by reference action under 1 CFR part 51, subject to the annual revision of FAA Order 7400.11 and publication of conforming amendments.

FOR FURTHER INFORMATION CONTACT: Jeffrey Claypool, Federal Aviation Administration, Operations Support Group, Central Service Center, 10101 Hillwood Parkway, Fort Worth, TX, 76177; telephone (817) 222-5711.

SUPPLEMENTARY INFORMATION:

History

The FAA published a final rule in the Federal Register (86 FR 6243; January 21, 2021) for FR Doc. 2021-01019 amending the Class D and Class E airspace and revoking the Class E airspace designated as an extension to Class D and Class E surface areas at Muskegon County Airport, Muskegon, MI. Subsequent to publication, the FAA identified that word “Airport” was inadvertently omitted from the Class E surface area airspace legal description for Muskegon County Airport. This action corrects that error.

Class E airspace designations are published in paragraph 6005 of FAA Order 7400.11E dated July 21, 2020, and effective September 15, 2020, which is incorporated by reference in 14 CFR 71.1. The Class E airspace designations listed in this document will be subsequently published in the Order.

Correction to Final Rule

Accordingly, pursuant to the authority delegated to me, Amendment of Class D and Class E Airspace and Revocation of Class E Airspace; Muskegon, MI, published in the Federal Register of January 21, 2021 (86 FR 6243), FR Doc. 2021-01019, is corrected as follows:

§ 71.1 [Amended]

On page 6244, column 2, line 22, amend to read, “. . . County Airport. This . . .”

Issued in Fort Worth, Texas, on March 1, 2021.
Martin A. Skinner,
Acting Manager, Operations Support Group ATO Central Service Center

[FR Doc. 2021-04474 Filed 3-8-21; 8:45 am]

BILLING CODE 4910-13-P